DEPARTMENT OF JUSTICE

Bureau of Alcohol, Tobacco, Firearms, and Explosives

[Docket No. ATF 2015R-15]

International Trade Data System Test—Voluntary Pilot Project

AGENCY: Bureau of Alcohol, Tobacco, Firearms and Explosives (ATF), Department of Justice.

ACTION: Notice.

SUMMARY: Along with more than a dozen other agencies, the Bureau of Alcohol, Tobacco, Firearms and Explosives (ATF) will participate in a U.S. Customs and Border Protection (CBP) pilot test of the International Trade Data System (ITDS) for processing import-related forms and data using the Partner Government Agency (PGA) Message Set and the Automated Commercial Environment (ACE). Industry participation in the pilot program is entirely voluntary.

The pilot test will allow participating importers to submit forms and information to CBP through ACE for the purpose of obtaining CBP release and receipt. CBP will validate that information, and electronically transmit entry and release information to agencies (including ATF) for purposes of satisfying CBP's certification requirements. The pilot program seeks to streamline this part of the import process. Interested parties should regularly check the following Web site to confirm the list of participating ports: http://www.cbp.gov/document/guidance/list-aceitds-pga-message-set-pilot-ports. Information on ATF's rules and regulations, and answers to commonly asked questions, can be found on the agency's Web site: http://www.atf.gov.

DATES: Interested parties may submit electronic or written requests to participate in the pilot program throughout the duration of the pilot. This pilot will begin no earlier than August 19, 2015, and will continue until concluded by publication of a notice ending it. Requests to participate in the pilot program should be submitted to William E. Majors, whose contact information can be found below.

FOR FURTHER INFORMATION CONTACT: William E. Majors, Chief, Firearms and Explosives Imports Branch, Firearms and Explosives Services Division, Enforcement Programs and Services; Bureau of Alcohol, Tobacco, Firearms and Explosives; U.S. Department of Justice; 244 Needy Road, Martinsburg, WV 25401; telephone: (304) 616-4589; fax: (304) 616-4551; email: William.Majors@atf.gov. For technical questions regarding ACE or ABI transmissions, or the PGA message set data transmission, please contact your assigned CBP client representative. Interested parties without an assigned client representative should submit an email to Steven Zaccaro at steven.j.zaccaro@cbp.dhs.gov.

SUPPLEMENTARY INFORMATION: ATF intends to join CBP's pilot program no earlier than August 19, 2015. Like other agencies, it encourages the voluntary participation of U.S. importers. Importers or their licensed customs broker who wish to participate in this test must have the capability to file the relevant data through the ACE using a software program that has completed ACE certification testing for the PGA message set. Instead of using the existing process, participating U.S. importers will use the PGA Message Set to send pertinent information through ACE for CBP release and receipt. These data elements include Agency Program Codes, Category Type Codes, ATF Category Code, Type Codes, and Exemption Codes. CBP will validate that information, and electronically transmit entry and release information to ATF for purposes of satisfying CBP's certification requirements.

All data submitted and entered into ACE is subject to the Trade Secrets Act (18 U.S.C. 1905) and is considered confidential, except to the extent as otherwise provided by law. As stated in previous notices, however, the submitter's participation in this or any of the previous ACE tests is not confidential and upon a written Freedom of Information Act request, the name(s) of an approved participant(s) will be disclosed by CBP in accordance with 5 U.S.C. 552.

A list of participating ports is available at http://www.cbp.gov/document/guidance/list-aceitds-pga-message-set-pilot-ports. Interested parties should regularly check the Web site for updates to the list of ports where this pilot is effective. This pilot program will begin no earlier than August 19, 2015, and will continue until concluded by publication of a notice ending it. Interested parties may submit requests to participate through the duration of the program.

Thomas E. Brandon,
Acting Director.

[FR Doc. 2015-18664 Filed 7-29-15; 8:45 am]

BILLING CODE 4410-FY-P